EXPORT-IMPORT BANK OF THE UNITED STATES

[Public Notice 107]

Agency Information Collection Activities: Proposed Collection; Comment Request

AGENCY: Export-Import Bank of the U.S.

ACTION: Notice and request for comments.

SUMMARY: The Export-Import Bank of the United States (Ex-Im Bank) provides working capital guarantees to lenders. In assessing the creditworthiness of an applicant, we review EIB/SBA Form 84-1. This form provides information which allows Ex-Im Bank to obtain legislatively required reasonable assurance of repayment, as well as to fulfill other statutory requirements. The following changes have been made to the form by the SBA: a field for the E-mail address; a field for the County (of business); an increase in selection for race; a change in reference to the Code of Federal Regulations for the Debarment/Suspension paragraph; a change in the agreements paragraph (Part C, Section 1) from “SBA form 159” to “SBA form 159(7a)” and the addition of the following provision: “Each proprietor, each general partner, each limited partner, member or stockholder owning 20% or more, each guarantor and the spouse, when applicable, of each of these must sign. * * * Attach a separate sheet of paper, if necessary.” Additionally, SBA added the following notices: (1) The Flood Disaster Protection Act, (2) Executive Orders—Floodplain Management and Wetland Protection, (3) the Occupational Safety and Health Act, (4) Civil Rights Legislation, (5) the Equal Credit Opportunity Act, (8) Executive Order 11738—Environmental Protection, (9) the Immigration Reform and Control Act of 1986, and (10) the Lead-Based Paint Poisoning Prevention Act. One item was deleted from the checklist of information to be attached, #16, SBA form 1261. Also added into the notices section were the “Statements Required by Law and Executive Order”, which applies to both Ex-Im Bank and SBA. Notices on the Debt Collection Act of 1982 and the Deficit Reduction Act of 1984, the Freedom of Information Act and the Right to Financial Privacy Act of 1978 were added and are applicable to customers of Ex-Im Bank and SBA. Ex-Im Bank made the following changes: in the Guarantor and Additional Borrower Representations and Certifications section “(SBA Applicants only), (for subsection b)” was added.

DATES: Written comments should be received on or before April 28, 2009 to be assured of consideration.

ADDRESSES: Ex-Im Bank Customers direct all comments and requests for additional information to Smaro Karakatsanis, Loan Officer, Business Credit Division, Export-Import Bank of the U.S., 811 Vermont Avenue, NW., Washington, DC 20571 (202) 565-3943, (800) 565-3946, extension 3943, or smark.karakatsanis@exim.gov.

SUPPLEMENTARY INFORMATION: Titles and Form Numbers: U.S. Small Business Administration, Export-Import Bank of the United States Joint Application for Working Capital Guarantee.

OMB Number: 3048-0003.

Form Number: EIB-SBA 84-1.

Type of Review: Revision and extension of expiration date.

Annual Number of Respondents: 673.

Export-Import Bank: 496.

Small Business Administration: 177.

Estimated Time per Respondent: 2.5 Hours.

Annual Burden Hours: 1,682.5.

Export-Import Bank: 1,240.0.

Small Business Administration: 442.5.

Frequency of Reporting or Use: Upon application for guarantees of working capital loans advanced by the lenders to U.S. exporters.

Dated: February 24, 2009.
Solomon Bush,
Agency Clearance Officer.

BILLING CODE 6690-01-P

[FR Doc. E9-4293 Filed 2-26-09; 8:45 am]

BILLING CODE 6690-01-C